DEPARTMENT OF TRANSPORTATION

Federal Railroad Administration

Notice of Funding Opportunity for Projects Located on the Northeast Corridor for the Federal-State Partnership for Intercity Passenger Rail Program

AGENCY: Federal Railroad Administration (FRA), Department of Transportation (DOT).

ACTION: Notice of funding opportunity (NOFO or Notice).

SUMMARY: This notice details the application requirements and procedures to obtain grant funding for projects located on the Northeast Corridor (NEC) under the Federal-State Partnership for Intercity Passenger Rail Program (FSP Program) for Fiscal Year 2022 and 2023. This notice solicits applications for FSP Program funds made available by the Consolidated Appropriations Act, 2022, and Division J of the Infrastructure Investment and Jobs Act (IIJA). The opportunity described in this notice is made available under Assistance Listings Number 20.326, “Federal-State Partnership for Intercity Passenger Rail.”

DATES: Applications for funding under this solicitation are due no later than 5 p.m. ET, March 27, 2023. Applications that are incomplete or received after 5 p.m. ET, on March 27, 2023 will not be considered for funding. See Section D of this notice for additional information on the application process.

ADDRESSES: Applications must be submitted via www.Grants.gov. Only applicants who comply with all submission requirements described in this notice and submit applications through www.Grants.gov will be eligible for award. For any supporting application materials that an applicant is unable to submit via www.Grants.gov (such as oversized engineering drawings), an applicant may submit an original and two (2) copies to Mr. Bryan Rodda, Office of Amtrak and Northeast Corridor Program Delivery, Federal Railroad Administration, 1200 New Jersey Avenue SE, Room W38-203, Washington, DC 20590. However, due to delays caused by enhanced screening of mail delivered via the U.S. Postal Service, applicants are advised to use other means of conveyance (such as courier service) to assure timely receipt of materials before the application deadline.

FOR FURTHER INFORMATION CONTACT: For further information related to this notice, please contact the FRA NOFO Support program staff via FRA-NOFO-Support@dot.gov. If additional assistance is needed, you may contact Mr. Bryan Rodda, Office of Amtrak and Northeast Corridor Program Delivery, Federal Railroad Administration, 1200 New Jersey Avenue SE, Room W38-203, Washington, DC 20590; email: Bryan.Rodda@dot.gov; telephone: 202-493-0443.

SUPPLEMENTARY INFORMATION: Notice to applicants: FRA recommends that applicants read this notice in its entirety prior to preparing application materials. Definitions of key terms used throughout the NOFO are provided in Section A(2) below. These key terms are capitalized throughout the NOFO. There are several administrative and specific eligibility requirements described herein with which applicants must comply. Additionally, applicants should note that the required Project Narrative component of the application package may not exceed 25 pages in length.

Table of Contents:

A. Program Description

B. Federal Award Information

C. Eligibility Information

D. Application and Submission Information

E. Application Review Information

F. Federal Award Administration Information

G. Federal Awarding Agency Contacts

H. Other Information

A. Program Description

1. Overview

The IIJA provided distinct FSP program selection criteria for projects located on the Northeast Corridor (NEC) and for projects not located on the NEC. For projects located on the NEC, the law requires projects to be selected for FSP program funds consistent with the Northeast Corridor Project Inventory (NEC Project Inventory). FRA published the NEC Project Inventory on November 15, 2022; the NEC Project Inventory can be found at https://railroads.dot.gov/elibrary/nec-inventory. This Notice solicits applications for the Major Backlog, Capital Renewal, Improvement, and Stations projects and Planning Studies identified on the NEC Project Inventory; it describes available FSP Program funding, application submission requirements, and the selection and evaluation criteria (FSP-NEC NOFO). For projects located off the NEC, FRA has published a separate notice on December 7, 2022, and those projects are not eligible for funding under this announcement. Under this Notice, FRA will make selections consistent with the NEC Project Inventory and only projects on the NEC Project Inventory for which an application is submitted under this NOFO will be considered for award.

Our nation's rail network is a critical component of the U.S. transportation system and economy. The FSP Program provides a Federal funding opportunity to improve American intercity passenger rail infrastructure by funding projects that reduce the state of good repair backlog, improve performance, or expand or establish new intercity passenger rail service, including privately operated intercity passenger rail service if an eligible applicant is involved. Consistent with the NEC Project Inventory, FRA's first priority will be selecting Major Backlog projects and Planning Studies. FRA's second priority will be selecting other projects in or beginning the Final Design or Construction Lifecycle Stages within the Inventory Period.

The FSP Program is authorized in sections 22106 and 22307 of the IIJA, codified at 49 U.S.C. 24911, and this NOFO is funded by IIJA supplemental appropriations as provided in Title VIII of Division J of IIJA (Supplemental Appropriations), and the Consolidated Appropriations Act, 2022 (Pub. L. 117-103) (Appropriations Act). The opportunity described in this notice is made available under Assistance Listings Number 20.326, “Federal-State Partnership for Intercity Passenger Rail.”

Discretionary grant awards, funded through the FSP-NEC NOFO, will support projects that improve safety, economic strength and global competitiveness, equity, climate and sustainability, and transformation, consistent with the U.S. Department of Transportation's (DOT) strategic goals.¹ Section E of this NOFO, which outlines the grant selection criteria, describes the process for selecting projects that further these goals. Section F of this NOFO provides further details on the Administration and National Policy Requirements to meet these goals and describes progress and performance reporting requirements for selected projects.

¹ DOT Strategic Plan FY 2022-2026 (March 2022) at https://www.transportation.gov/sites/dot.gov/files/2022-04/US_DOT_FY2022-26_Strategic_Plan.pdf.

2. Definitions of Key Terms

Terms defined in this section are capitalized throughout this notice. Some definitions have been updated from those published in the NEC Project Inventory.

a. “Capital Cost Estimate” means an estimate of the cost to implement the Capital Project inclusive of Project Development through completion of Construction that accounts for risk to the cost elements and the schedule to complete the project.

b. “Capital Project” means a project for acquiring, constructing, improving or inspecting rail equipment, track and track structures, or a rail facility, including expenses incidental to the acquisition or construction including pre-construction activities (such as designing, engineering, location surveying, mapping, acquiring rights-of-way) and related relocation costs, environmental studies and all work necessary for FRA to approve the project under the National Environmental Policy Act; highway-rail grade crossing improvements; communication and signalization improvements; and rehabilitating, remanufacturing or overhauling rail rolling stock and rail facilities.

c. “Commuter Rail Passenger Transportation” means short-haul rail passenger transportation in metropolitan and suburban areas usually having reduced fare, multiple rides, and commuter tickets and morning and evening peak period operations, consistent with 49 U.S.C. 24102(3); the term does not include rapid transit operations in an urban area that are not connected to the general railroad system of transportation.

d. “Construction” means the Lifecycle Stage of a Capital Project when physical production of fixed works and structures, or substantial alterations to such structures or land, or production of vehicles and equipment are accomplished and commissioned for operational use. Construction includes associated project administration, test of equipment as appropriate, systems integration testing, workforce training, system certification, procurement of insurance, pre-revenue service, start-up testing, and other related costs.

e. “Final Design (FD)” means the Capital Project Lifecycle Stage when final design and engineering plans and specifications necessary for the Construction stage is completed, and at a minimum, includes (1) the preparation of final design plans consistent with the applicable environmental decision document, and detailed specifications, (2) the preparation of an updated Project Management Plan, (3) preparation of an updated project schedule, Capital Cost Estimate, and other necessary plans that may include a financial plan for Major Capital Projects, sufficiently detailed to inform decision makers of the actions required to advance the project through completion of Final Design and Construction. FD may include early construction or relocations and procure equipment and materials during the final design stage, when such work is permissible under applicable law, and may be combined with Construction with the use of alternative delivery methods.

f. “Improvement” means repair or enhancement to existing rail infrastructure, equipment, or facility, or construction of new rail infrastructure, equipment or facilities, that results in efficiency of the rail system and the safety of those affected by the system.

g. “Inventory Period” means the two-year period starting on the date the applicable Northeast Corridor Project Inventory was published.

h. “Intercity Rail Passenger Transportation” means rail passenger transportation, except commuter rail passenger transportation. See 49 U.S.C. 24911(a)(3). In this notice, “Intercity Passenger Rail Service” and “Intercity Passenger Rail Transportation” are equivalent terms to “Intercity Rail Passenger Transportation.”

i. “Lifecycle Stage” means each of the consecutive stages of a Capital Project as it is developed and implemented that include Systems Planning, Project Planning, Project Development, Final Design, Construction, and Operation. Each sequential stage involves specific activities. FRA evaluates project readiness for a Lifecycle Stage when considering a project for funding.

j. “Major Capital Project” means a Capital Project with a Capital Cost Estimate of $500 million and with at least $100 million in federal assistance under the FSP Program.

k. “National Environmental Policy Act” (NEPA) is a federal law that requires Federal agencies to analyze and document the environmental impacts of a proposed action in consultation with appropriate Federal, state, and local authorities, and with the public. NEPA classes of action include an Environmental Impact Statement (EIS), Environmental Analysis (EA) or Categorical Exclusion (CE). The NEPA class of action depends on the nature of the proposed action, its complexity, and the potential impacts. For purposes of this NOFO, NEPA also includes all related Federal laws and regulations including the Clean Air Act, Section 4(f) of the Department of Transportation Act, Section 7 of the Endangered Species Act, and Section 106 of the National Historic Preservation Act. Additional information regarding FRA's environmental processes and requirements are located at https://railroads.dot.gov/rail-network-development/environment/environment.

l. “Northeast Corridor” (“NEC”) means the main rail line between Boston, Massachusetts, and the District of Columbia; the branch rail lines connecting to Harrisburg, Pennsylvania, Springfield, Massachusetts, and Spuyten Duyvil, New York; and facilities and services used to operate and maintain these lines, consistent with 49 U.S.C. 24911(a)(3).

m. “NEC Planning Documents” means the Northeast Corridor Commission's CONNECT NEC 2035 and the FY 2023-2027 Northeast Corridor Capital Improvement Plan.

n. “Planning Studies” are those projects which include only planning activities such as railroad transportation market forecasting, operations analysis, fleet planning, cost analysis, station and facility planning, environmental resource consideration, and other similar activities. Planning Studies are planning activities without association to construction of a specific Capital Project in their current form.

o. “Project Development” means the Capital Project Lifecycle Stage during which (1) the environmental review process required under NEPA and other related environmental laws is completed, and the permitting processes is advanced as appropriate; (2) preliminary engineering and other preliminary design is completed to support the environmental review and preparation of estimates of risk, costs, benefits and impacts; (3) a Project Management Plan is prepared that, among other things, identifies procurement requirements and strategies; (4) preparation of the detailed project schedule and cost estimate; and (5) preparation of a financial plan for Major Projects and other necessary plans.

p. “Project Planning” means the Capital Project Lifecycle Stage during which the Project Sponsor (1) identifies capital project concepts to address transportation needs and opportunities; (2) identifies and compares costs, benefits and impacts of project options; and (3) identifies the impacted environmental resources and engages with interested parties, agencies and infrastructure owners.

q. “Project Management Plan” means a document, prepared in accordance with guidance, that describes how the Capital Project will be implemented, monitored, and controlled to help the applicant effectively, efficiently, and safely deliver the project on-time, within-budget, and at the highest appropriate quality.

r. “Preliminary Engineering (PE)” means engineering design to define a Capital Project, including identification of all environmental impacts and design of all critical project elements at a level sufficient to assure reliable cost estimates and schedules. The PE development process starts with specific project design alternatives that allow for the assessment of a range of rail improvements, specific alignments, and project designs.

s. “Risk Assessment” means the Major Capital Project cost and schedule risk assessment is an unbiased, risk-based, probabilistic analysis that verifies the accuracy and reasonableness of the current cost estimate and schedule and results in a probability range that represents the project's cost. It also documents how the estimate accounts for the range of potential costs associated with project uncertainties.

t. “State of Good Repair” means a condition in which physical assets, both individually and as a system, are (A) performing at a level at least equal to that called for in their as-built or as-modified design specification during any period when the life cycle cost of maintaining the assets is lower than the cost of replacing them; and (B) sustained through regular maintenance and replacement programs, consistent with 49 U.S.C. 24102(12).

B. Federal Award Information

1. Available Award Amount

The total funding available for awards under this NOFO is up to $8,979,150,000 made available by Supplemental Appropriations and the Appropriations Act, as follows:

a. Up to $8,928,000,000 in Supplemental Appropriations: IIJA provided $36,000,000,000 in Supplemental Appropriations for the FSP Program, with not more than $24,000,000,000 made available for projects for the NEC ($4,800,000,000 made available per year for fiscal years 2022 through 2026). After the funding set aside for FRA award and project management oversight and the planning and development activities authorized at 49 U.S.C. 24911(k), up to $8,928,000,000 in funding made available for fiscal years 2022 and 2023 is available for FSP awards under this NOFO.

b. Up to $51,150,000 in fiscal year 2022 annual appropriations: The Appropriations Act provided $100,000,000 for the FSP Program. Consistent with 49 U.S.C. 24911(d)(3), a minimum of 45 percent and a maximum of 55 percent of this amount is for projects for the NEC. After the funding set aside for FRA award and project management oversight and the planning and development activities authorized at 49 U.S.C. 24911(k), at least $41,850,000 and up to $51,150,000 in fiscal year 2022 annual funding is made available for FSP awards under this NOFO.

Should additional funds become available after the release of this FSP-NEC NOFO, FRA may elect to award such additional funds to applications received under this NOFO. Any selection and award under this NOFO is subject to the availability of appropriated funds.

2. Award Size

There are no predetermined minimum or maximum dollar thresholds for awards. FRA intends to make selections consistent with the NEC Project Inventory, subject to the application and evaluation process. FRA anticipates making multiple awards with the available funding. FRA may not be able to award grants to all eligible applications even if they meet or exceed the stated evaluation criteria (see Section E, Application Review Information). Projects may require more funding than is available. FRA encourages applicants to propose a project that has operational independence or a component of such project and that can be completed and implemented with funding under this NOFO as a part of the total project cost together with other, non-Federal sources (See Section C for more information).

3. Award Type

a. Grants and Cooperative Agreements

FRA will make awards for projects selected under this Notice through grant agreements or cooperative agreements. Grant agreements are used when FRA does not expect to have substantial Federal involvement in carrying out the funded activity. Cooperative agreements allow for substantial Federal involvement in carrying out the agreed upon investment, including technical assistance, review of interim work products, and increased program oversight. The term “grant” is used throughout this document and is intended to reference funding awarded through a grant agreement, as well as funding awarded through a cooperative agreement. The funding provided under this NOFO will be made available to grantees on a reimbursable basis. Applicants must certify that their expenditures are allowable, allocable, reasonable, and necessary to the approved project before seeking reimbursement from FRA. Additionally, the grantee is expected to expend matching funds at the required percentage concurrent with Federal funds throughout the life of the project. See an example of standard terms and conditions for FRA grant awards at: https://www.fra.dot.gov/eLib/Details/L19057. This template is subject to revision.

b. Letters of Intent and Phased Funding Agreements

FRA may issue Letters of Intent (LOI) or Phased Funding Agreements (PFA) to FSP applicants proposing Major Capital Projects. Applications for a Major Capital Project who are seeking an LOI or PFA must request an LOI or PFA in the Project Narrative and provide the additional information required in Section D.2.a.iii. FRA may independently determine that a project is appropriate for an LOI or PFA. FRA may also determine that a grant or cooperative agreement is the more appropriate funding vehicle for the project, or component of the project, even if a LOI or PFA is requested.

An LOI, authorized at 49 U.S.C. 24911(g)(1), is a letter from FRA to a grantee announcing an intention to obligate an amount to the grantee's Major Capital Project from future budget authority. LOIs are contingent commitments and not binding obligations of the Federal government. FRA intends to use LOIs to demonstrate its intent to provide future Final Design and Construction Lifecycle Stage funding for Major Capital Projects assuming successful completion of Project Planning and Project Development Lifecycles for the project. FRA therefore anticipates issuing LOIs primarily to projects currently in, or beginning, the Project Development Lifecycle Stage. In issuing an LOI, FRA may outline conditions or define readiness thresholds that the grantee may use to inform future funding requests for FSP funds.

A PFA, authorized at 49 U.S.C. 24911(g)(2), is an agreement associated with the obligation of an initial grant award under the Partnership Program. FRA may only enter into a PFA for highly rated Major Capital Projects. A PFA shall: (1) establish the terms of participation by the Federal Government in the project; (2) establish the maximum amount of Federal financial assistance for the project; (3) include the period of time for completing the project, even if such period extends beyond the period for which Federal financial assistance is authorized; and (4) make timely and efficient management of the project easier in accordance with Federal law.² FRA anticipates limiting the use of PFAs to applications that include funding for the Construction Lifecycle Stage and are scheduled to enter the Final Design or Construction Lifecycle Stage within the Inventory Period. PFAs are contingent commitments and are not financial obligations of the Federal government. However, unlike LOIs, PFAs are agreements relating to the obligation of future funds in which FRA commits to provide funding as specified in the PFA, and subject to appropriation, for the duration of the project, as long as the grantee continues to meet the terms of the PFA. For a project with a PFA, FRA will provide grant funding in phases consistent with the terms of the PFA and within the established maximum amount of Federal financial assistance for the project.

² Generally, prior to receiving a PFA, the project sponsor must complete the process for complying with the National Environmental Policy Act of 1969 (42 U.S.C. 4321 et seq.) and related environmental laws for the project.

c. Concurrent Applications

DOT and FRA may be concurrently soliciting applications for transportation infrastructure projects for several financial assistance programs. Applicants may submit applications requesting funding for a particular project to one or more of these programs. In the application for funding under this NOFO, applicants must indicate the other program(s) to which they submitted or plan to submit an application for funding the entire capital project or certain project components, as well as highlight new or revised information in the application responsive to this NOFO that differs from the previously submitted application(s).

C. Eligibility Information

This section of the notice explains applicant eligibility, cost sharing and matching requirements, project eligibility, and project component operational independence. Applications that do not meet the requirements in this section will be ineligible for funding. Instructions for submitting eligibility information to FRA are detailed in Section D of this NOFO.

1. Eligible Applicants

The following entities are eligible applicants for all projects permitted under this notice:

(1) a State (including the District of Columbia);

(2) a group of States;

(3) an Interstate Compact;

(4) a public agency or publicly chartered authority established by one or more States; ³

³ See Section D(2)(a)(iv) for supporting documentation required to demonstrate eligibility under this eligibility category.

(5) a political subdivision of a State;

(6) Amtrak, acting on its own behalf or under a cooperative agreement with one or more States;

(7) a federally recognized Indian Tribe, or

(8) any combination of the entities described in (1) through (7).

The applicant is considered the project sponsor and will be the primary point of contact for the application, and if selected, the grantee of the FSP Program award.⁴ If a joint application is submitted under (8) above, one of the submitting applicants must be identified as the lead applicant to serve as the primary point of contact for the application, and if selected, as the grantee of the FSP Program award.

⁴ In this NOFO, the terms “applicant” and “project sponsor” are used interchangeably.

An application submitted by Amtrak and one or more States, whether eligible under (1), (2) or (6) above, must identify the lead applicant and include a signed cooperative agreement between Amtrak and the state(s) consistent with 49 U.S.C. 24911(a)(1)(F). Applications may reference entities that are not eligible applicants (e.g., a private intercity passenger rail operator) in an application as a partner in project funding or implementation, but ineligible entities may not be the lead applicant nor, if selected, the grantee. If the applicant intends to partner with an ineligible entity, that intention should be made clear in the application and a letter of support from the ineligible entity outlining its roles and responsibilities for the project must be included in the application. Eligible applicants who partner with private operators of intercity passenger rail will be the primary point of contact and the primary recipient of the award and therefore will be responsible for administering and managing Federal funds and ultimately delivering the project. Eligible applicants must have necessary agreements to implement, manage, and oversee the project with all appropriate parties and submit these agreements as supporting documents with their application.

2. Cost Sharing or Matching

FRA will evaluate the application based on the amount of Federal funds for the project requested in the application.⁵ The Federal share of total costs for FSP projects funded under this notice shall not exceed 80 percent. As stated in the NEC Project Inventory, FRA will generally fund Planning and Major Backlog projects applying under this notice up to 80 percent Federal share. FRA will generally fund Capital Renewal, Stations and Improvement projects applying under this notice between 50 and 80 percent Federal share. FRA will favorably consider a higher Federal share, within this range, for: i) projects that primarily repair, replace, or rehabilitate railroad assets such as track, structures, electric traction and power systems, and communication and signal systems, to bring such assets into a state of good repair, and ii) intercity passenger rail projects or projects that improve rail service consistent with 49 U.S.C. 24911(c)(2) and provide a high proportion of intercity passenger rail benefit relative to overall project benefits. Additionally, in preparing the Capital Cost Estimate, applicants should, as appropriate, consult available FRA guidance, including FRA's cost estimate guidance documentation, “Capital Cost Estimating: Guidance for Project Sponsors”.⁶

⁵ If an applicant's cost share agreement demonstrates the commitment of more non-Federal dollars than proposed in the application, the applicant should note the distinction and confirm that the difference was intentional.

⁶ The “Capital Cost Estimating: Guidance for Project Sponsors,” is available at: https://www.fra.dot.gov/Page/P0926.

The non-Federal share may be comprised of public sector (e.g., State or local) or private sector funding. FRA will not consider any Federal financial assistance, or any non-Federal funds already expended (or otherwise encumbered) toward the matching requirement, unless compliant with 2 CFR part 200.⁷ If repaid from non-Federal sources, Federal credit assistance is considered non-Federal share. In-kind contributions, including the donation of services, materials, and equipment, may be credited as a project cost, in a uniform manner consistent with 2 CFR part 200.306.

⁷ See Section D(2)(a)(iii) for supporting information required to demonstrate eligibility of Federal funds for use as match.

If Amtrak is an applicant, Amtrak may use its ticket and other non-Federal revenues generated from its operations and other sources as well as funding provided by the Supplemental Appropriations under the heading “Northeast Corridor Grants to the National Railroad Passenger Corporation” to satisfy the non-Federal share requirements. Applicants must identify the source(s) of their matching and other funds and must clearly and distinctly reflect these funds as part of the total project cost.

Before applying, applicants should carefully review the principles for cost sharing or matching in 2 CFR 200.306. See Section D(2)(a)(iii) for required application information on non-Federal match and Section E for further discussion of FRA's consideration of matching funds in the review and selection process. FRA will approve pre-award costs consistent with 2 CFR 200.458, as applicable (see Section D(5)). Cost sharing or matching may be used only for authorized Federal award purposes.

3. Other

a. Project Eligibility

Only projects on the NEC Project Inventory for which an application is submitted under this NOFO will be considered for award. The following capital projects, including acquisition of real property interests, are eligible:

(1) A project to replace, rehabilitate, or repair infrastructure, equipment,⁸ or a facility used for providing intercity passenger rail service to bring such assets into a state of good repair.

⁸ The location of the equipment's primary use will determine whether it is a project located on the NEC.

(2) A project to improve intercity passenger rail service performance, including reduced trip times, increased train frequencies, higher operating speeds, improved reliability, expanded capacity, reduced congestion, electrification, and other improvements, as determined by the Secretary.

(3) A project to expand or establish new intercity passenger rail service.

(4) A group of related projects described in paragraphs (1) through (3).

(5) The planning, environmental studies, and Final Design for a project or group of projects described in paragraphs (1) through (4).

For projects that are on a shared corridor with Commuter Railroad Passenger Transportation or freight transportation, applicants must clearly demonstrate how the proposed project benefits Intercity Passenger Rail Transportation and that funding the proposed project would be a reasonable investment in Intercity Passenger Rail Transportation, independent and separate from consideration of the proposed project's benefits to other transportation purposes. A project that uses rolling stock or equipment originating from a “country of concern” or from a state-owned enterprise, as those terms are defined under Sec. 49 U.S.C. 20171, is ineligible.

Capital Projects, as further defined in Section A(2), may include the acquisition of real property interests, Project Planning, Project Development, Final Design, and Construction. Pre-Construction activities are eligible for funding independently or in conjunction with proposed funding for construction.

b. Application Tracks

Applicants are not limited in the number of applications for which they seek funding. FRA expects that applications identify only one of the following tracks for an eligible project: Track 1—Planning Studies and Project Planning; Track 2—Project Development; Track 3—Final Design (FD) and Construction.

i. Track 1—Planning Studies and Project Planning:

Planning Studies include planning activities (with no associated construction), and examples include: railroad transportation market forecasting, conceptual design activities (e.g., operations analysis, establishing the type and scope of capital improvements), fleet planning, cost analysis, station and facility planning, environmental resource consideration (e.g., development of a purpose and need statement, preliminary alternatives analysis, identification of environmental resources and analysis of potential environmental effects), and other similar activities. Project Planning includes planning specific to a Capital Project. Examples include the development of a purpose and need study for a proposed capital project; development of conceptual design concepts that establish the type and scope of identified capital improvements; an alternative analysis identifying the costs, benefits, service option, and methodology for eliminating preliminary project alternatives; an environmental analysis that addresses resources and potential environmental effects both to natural and the human environment.

ii. Track 2—Project Development:

Track 2 consists of projects for eligible Project Development activities. Project development includes design, environmental and other studies to ensure the project is ready for Final Design and Construction. Examples include: PE activities such as development of PE drawings and specifications (scale drawings at the 30 percent design level, including track geometry as appropriate), design criteria, schematics and/or track charts that support the development of PE; work that can be funded in conjunction with developing PE, such as operations modeling, surveying, project work/management plans, preliminary cost estimates, and preliminary project schedules; and activities required to complete review under NEPA and associated laws, to advance permitting processes as appropriate, and to inform economic benefits assessments. Project Development activities funded under this NOFO should result in capital projects that are sufficiently developed to support FD or Construction activities, including with respect to equipment.

iii. Track 3—FD, FD/Construction, or Construction:

Track 3 consists of projects for eligible FD and/or Construction, and project implementation and deployment activities, including with respect to equipment. Applicants must complete all necessary Project Planning and Project Development requirements for FD/Construction projects. FD funded under this track must resolve remaining uncertainties or risks associated with the design and scope of the Capital Project; address procurement processes; and update and refine the schedule, cost estimate, and plans for financing the project to reflect accurately the expected year-of expenditure costs and cash flow projections. Prior to obligation, applicants selected for funding for FD/Construction or Construction only must demonstrate the following to FRA's satisfaction: (A) PE is completed for the proposed project, resulting in project designs that are reasonably expected to conform to all regulatory, safety, security, and other design requirements, including those under the Americans with Disabilities Act (ADA); (B) NEPA is completed for the proposed project; (C) the applicant has entered into the appropriate agreements with key project partners, including infrastructure-owning entities; and (D) a Project Management Plan is complete and up-to-date for managing the implementation of the proposed project, including the management and mitigation of project risks.

D. Application and Submission Information

Required documents for the application are outlined in the following paragraphs. Applicants should, as appropriate, consult available FRA guidance when developing applications. Applicants must complete and submit all components of the application. See Section D(2) for the application checklist. FRA welcomes the submission of additional relevant supporting documentation, such as planning, engineering and design documentation, and letters of support from partnering organizations. Such supporting documentation will not count against the Project Narrative 25-page limit.

1. Address To Request Application Package

Applicants may access application materials at https://www.Grants.gov and must submit all application materials in their entirety through https://www.Grants.gov no later than 5 p.m. ET, on March 27, 2023. Applicants must complete an Authorized Organization Representative (AOR) profile on www.Grants.gov and create a username and password. Additional information about the registration process is available at: https://www.grants.gov/web/grants/applicants/organization-registration.html.

Applicants are strongly encouraged to apply early to ensure that all materials are received before the application deadline. FRA reserves the right to modify this deadline. General information for submitting applications through Grants.gov can be found at: https://railroads.dot.gov/grant-administration/applying-grants/competitive-grants-application-process.

FRA is committed to ensuring that information is available in appropriate alternative formats to meet the requirements of persons who have a disability. If you require an alternative version of files provided, please contact Laura Mahoney, Office of the Chief Financial Officer, Federal Railroad Administration, 1200 New Jersey Avenue SE, Washington, DC 20590; email: laura.mahoney@dot.gov; telephone: 202-578-9337.

The E-Biz POC at the applicant's organization must respond to the registration email from Grants.gov and login at www.Grants.gov to authorize the applicant as the AOR. Please note there can be more than one AOR for an organization.

If an applicant experiences difficulty at any point during this process, please call the Grants.gov Customer Center Hotline at 1-800-518-4726, 24 hours a day, 7 days a week (closed on Federal holidays). For information and instructions on each of these processes, please see instructions at: https://www.grants.gov/web/grants/applicants/apply-for-grants.html.

2. Content and Form of Application Submission

FRA strongly advises applicants to read this section carefully. Applicants must submit all required information and components of the application package to be considered for funding. Applications that are not submitted on time or do not contain all required documentation will not be considered for funding. To support the application, applicants may provide other relevant and available optional supporting documentation that may have been developed by the applicant, especially such documentation that demonstrates completion of appropriate Lifecycle Stage(s) of a Capital Project. Additionally, applicants selected to receive funding must satisfy the requirements in 49 U.S.C. 229003 and 22905, including FRA's Buy America requirement and conditions explained in part at https://www.fra.dot.gov/page/P0185 and further in section F.2 of this notice.

All forms needed for the electronic application process are at www.Grants.gov. Applicants must submit the following with their application packages. The required attachments and Grants.Gov generated forms are outlined in the checklists below. Applications that do not complete and submit each of the required documents below will be considered incomplete and will not be reviewed.

Required Attachments

1. Project Narrative (see D.2.a)

2. Grant Template Attachments 2-5 (see D.2.b.i)

3. Funding Commitment Supporting Documentation (see D.2.a.iii)

4. Financial Plan or Funding Plan (see D.2.a.x.B.3)

5. Draft Agreement required under 49 U.S.C. 22905(c)(1), if applicable (see D.2.b.ii)

Grants.Gov Generated Forms Required (MUST BE SIGNED)

A. SF424—Application for Federal Assistance

B. SF 424A—Budget Information for Non-Construction (for an equipment procurement project or non-Construction project) OR SF 424C—Budget Information for Construction

C. FRA's F 251—Applicant Financial Capability Questionnaire

D. FRA's F 30—Certifications Regarding Debarment, Suspension and Other Responsibility Matters, Drug-Free Workplace Requirements and Lobbying

E. SF LLL—If reportable lobbying activities exist, Certification Regarding Debarment, Suspension and Other Responsibility Matters, Drug Free Workplace Requirements and Disclosure of Lobbying Activities

F. SF 424B—Assurances for Non-Construction (for an equipment procurement project or non-Construction project) OR SF 424D—Assurances for Construction

a. Project Narrative

This section describes the minimum content required in the Project Narrative. The Project Narrative must follow the basic outline below to address the program requirements and assist evaluators in locating relevant information.

i. Cover Page | See D.2.a.i.
ii. Project Summary | See D.2.a.ii.
iii. Project Funding | See D.2.a.iii.
iv. Applicant Eligibility Criteria | See D.2.a.iv.
v. Project Eligibility Criteria | See D.2.a.v.
vi. Detailed Project Description | See D.2.a.vi.
vii. Project Location | See D.2.a.vii.
viii. Grade Crossing Information, if applicable | See D.2.a.viii.
ix. Statutory Criteria | See D.2.a.ix.
x. Evaluation and Selection Criteria | See D.2.a.x.

The above content must be provided in a narrative statement submitted by the applicant. The Project Narrative may not exceed 25 pages in length (excluding cover page, table of contents, and supporting documentation). FRA will not review or consider any pages within the Project Narratives beyond the 25-page limitation. If possible, applicants should submit supporting documents via website links rather than hard copies. If supporting documents are submitted, applicants must clearly identify the relevant portion of the supporting document with the page numbers of the cited information in the Project Narrative. The Project Narrative must adhere to the following outline.

i. Cover Page: Include a cover page that lists the following elements in either a table or formatted list:

Project Name |
Lead Applicant Name/Project Sponsor.
Amount of Federal Funding Requested in this Application.
Proposed Non-Federal Match.
Total Project Cost/Total Project Cost For Lifecycle Stage beginning by 2024 | $_/$_
LOI/PFA Requested? | Yes/No.
If PFA Funding Requested, Provide Amount of:
—Request under this NOFO for initial obligation | Initial Obligation:
—Request under this NOFO for scheduled obligations under a PFA (This equals the remaining amount of the Total Project Cost.) | Total Future Obligations:
The above amounts combined should equal the Total Project Cost.
If LOI Requested, Provide Amount of:
—Request under this NOFO for obligation and | Obligation Amount:
—Requested amount under LOI which may be applied for under future NOFOs (This may or may not equal the remaining amount of the Total Project Cost.) | LOI Amount:
Was a Federal Grant Application Previously Submitted for this Project? | Yes/No.
If Yes, State the Name of the Federal Grant Program and Title of the Project in the Previous Application | Federal Grant Program:
Current Project Lifecycle Stage.
Project Lifecycle Stage(s) to be Funded in this Application.
Intercity Passenger Rail Service(s) Benefiting from the Project.
For shared benefit projects, identify the Commuter Rail Passenger Transportation service(s) benefiting from the project.
Infrastructure Owner(s) of Project Assets.
City(-ies), State(s) Where the Project is Located.
Congressional District(s) Where the Project is Located.

ii. Project Summary: Provide a brief (4-6 sentence) summary of the proposed project and what the project will entail. Include challenges the proposed project aims to address and summarize the intended outcomes and anticipated benefits that will result from the proposed project.

iii. Project Funding:

a. Indicate in table format the amount of Federal funding requested under this NOFO, the proposed non-Federal match, and total project cost based on the Capital Cost Estimate. Applications for a Major Capital Project seeking funding for Construction, must include the remaining budget needed to complete the Construction Lifecycle Stage, whether or not the applicant is seeking a PFA. Applications for a Major Capital Project seeking funding for Project Development must distinguish the amount requested under this NOFO and the amount for the LOI to be requested under future NOFOs. The Capital Cost Estimate must be based on the best available information as indicated in cited references that include engineering studies, economic feasibility studies, environmental analyses, and information on the expected use of equipment or facilities.

Identify the source(s) of matching and other funds, and clearly and distinctly reflect these funds as part of the total project cost in the application budget. Include funding commitment letters outlining funding agreements, as attachments or in an appendix. Funding commitments must be signed by an authorized representative of the entity providing a non-Federal match. If Federal funding is proposed as match, demonstrate the applicant's determination of eligibility for such use, and the legal basis for that determination. Also, note if the requested Federal funding under this NOFO or other programs must be obligated or spent by a certain date due to dependencies or relationships with other Federal or non-Federal funding sources, related projects, law, or other factors. If applicable, provide the type and estimated value of any proposed in-kind contributions, as well as substantiate how the contributions meet the requirements in 2 CFR 200.306.

Finally, specify whether Federal funding for the project has previously been sought, and identify the Federal program and fiscal year of the funding request(s), as well as highlight new or revised information in the FSP application that differs from the application(s) to other financial assistance programs. FRA may not award more funding for a project than is requested in an application.

b. Example Project Funding Tables:

The following tables provide examples of how applicants may provide project funding information. All applicants should provide the information requested in Table 1 and Table 2. Only applicants with Major Capital Projects are required to provide the information requested in all three tables. Applicants may provide additional rows and columns, or additional project funding tables, as appropriate, to provide the requested project funding information.

Table 1—Project Cost by Task
Task No. | Task name/project component | Non-federal funding: Amount ($) | Non-federal funding: Percent (%) | FSP funding request: Amount ($) | FSP funding request: Percent (%) | Other federal funding: Amount ($) | Other federal funding: Percent (%) | Total ($)
1 |  |  |  |  |  |  |  |
2 |  |  |  |  |  |  |  |
3 |  |  |  |  |  |  |  |

Table 2—Source of Funds
Type | Source | Amount ($) | Percent of project cost (%)
Federal | FSP Funds Request |  |
| FSP PFA or LOI Request |  |
| Other Federal Funds |  |
Non-Federal | Non-Federal Matching Funds |  |

Table 3—Project Costs by Anticipated Year of Expenditure
| FY 2023 | FY 2024 | FY 2025 | FY 2026
FSP Funding |  |  |  |
Other Federal |  |  |  |
Non-Federal |  |  |  |
Total |  |  |  |

c. Applications for a Major Capital Project seeking funding for FD/Construction or Construction Stage activities that are scheduled to enter the Final Design or Construction Stages within the Inventory Period, must provide an annualized budget in year of expenditure dollars, the anticipated annual Federal funding requests from this grant program, anticipated future non-Federal match, and total project cost through completion of the Construction Stage, so that FRA can properly evaluate the project for a PFA. PFA applicants must include proposed milestones by which FRA can measure progress.

iv. Applicant Eligibility Criteria: Explain how the applicant meets the applicant eligibility criteria outlined in Section C of this notice. For public agencies and publicly chartered authorities established by one or more States, the explanation must include relevant legislative language and citations to the applicable enabling legislation. Include the technical qualifications and demonstrated experience of key personnel proposed to lead and perform the technical efforts, and the qualifications of the primary and supporting organizations to fully and successfully execute the proposed project within the proposed timeframe and budget. Discussion of applicant qualifications should include experience in managing similar projects and specifically address the considerations in 2 CFR 200.206(b).

For applications involving Amtrak and one or more States, Amtrak and the State(s) must provide a cooperative agreement for the project signed by authorized representatives of Amtrak and each State. Such cooperative agreements must include a description of the roles and responsibilities of each party, including budget and subrecipient information showing how the parties will share project costs. A cost share agreement signed by Amtrak and one or more States would address this requirement if it addressed the requirements above.

v. Project Eligibility Criteria: Demonstrate that the proposed project meets the project eligibility criteria in Section C(3)(a) of this notice.

vi. Detailed Project Description: Include a detailed project description that expands upon the project summary. The detailed description should provide, at a minimum: a statement of the intercity passenger rail benefit of the project and the proportion of intercity passenger rail benefit relative to overall project benefits; a statement of the purpose or purposes for undertaking the project consistent with 49 U.S.C. 24911(c)(1-5), including identifying the primary purpose of the project or the relative importance of such purposes; a thorough description of the scope of the project identifying the specific components and elements of the project and associating those components and elements to the purposes provided above; additional background on the transportation challenges the project aims to address; a summary of current and proposed railroad operations in the project area, to include identification of all railroad owners and operators, typical daily, weekly, or annual train counts by operator, and ridership data for passenger operations; a statement of the primary expected project outcomes such as increased ridership, reduced delays, improved rail network asset condition and performance, or similar outcomes and benefits; identification of the expected users and beneficiaries of the project, including all railroad operators and types of passenger or freight rail service operating or proposed to operate in the project area; a statement demonstrating how the proposed project is consistent with the NEC Planning Documents ⁹ and associated state or regional long-range planning documents and local government priorities; and any other information the applicant deems necessary to justify the proposed project.

⁹ Applicants may submit copies of the relevant pages of such plans as supporting documents in their application or provide a citation of the relevant document name(s) and page number(s).

vii. Project Location: Include geospatial data for the project, as well as a map of the project's location. Geospatial data can be expressed in terms of decimal degrees for latitude and longitude of at least five decimal places of precision or start and end mileposts with the railroad code of the owning railroad and subdivision name. On the map, include the Congressional districts in which the project will take place.

viii. Grade Crossing Information, if applicable: For a project that includes grade crossing components, cite specific DOT National Grade Crossing Inventory information, including the railroad that owns the infrastructure (or the crossing owner, if different from the railroad), the primary railroad operator, the DOT crossing inventory number, and the roadway at the crossing. Applicants can search for data to meet this requirement at the following link: https://railroads.dot.gov/safety-data/fra-safety-data-reporting/crossing-inventory-data-search.

ix. Statutory Criteria: Include a statement that the proposed project is consistent with the most recently published NEC Project Inventory, or in the alternative include a statement that there have not been any material changes to infrastructure, service conditions or project sponsor capabilities or commitments or other significant changes that may affect the scope, schedule or budget of the project, or in the alternative a statement explaining such material changes and how they will affect the scope, schedule or budget of the project.

For projects that benefit intercity and commuter rail services, a statement that Amtrak and the public authorities providing commuter rail passenger transportation at the eligible project location are in compliance with section 24905(c)(2); and identification of the funding for the intercity passenger rail share, the commuter rail share and the local share of the project before commencement of the project. Applicants must identify these shares for the Lifecycle Stage(s) for which they are seeking funding (for example, an application seeking funding only for Project Development must identify funding shares only for the Project Development Lifecycle Stage and not for the FD and Construction stages of the same project.)

x. Evaluation and Selection Criteria: Include a thorough discussion of how the proposed project meets the evaluation and selection criteria as outlined in Section E of this notice. If an application does not sufficiently address the evaluation criteria and the selection criteria, it is unlikely to be a competitive application.

A. Project Implementation:

Describe proposed project implementation and project management arrangements. Applicants must address whether railroad workforce needs have been evaluated as well as whether all required resources have been identified. Include descriptions of the arrangements for handling work force constraints and outages, project contracting including use of small businesses consistent with 2 CFR 200.321, contract oversight and control, change-order management, and conformance to Federal requirements for project progress reporting (see https://www.fra.dot.gov/Page/P0274). Further, applicants must provide their plan for taking affirmative steps to employ small businesses consistent with 2 CFR 200.321.

Assessment of Project Risks and Mitigation Strategies. Project risks, such as procurement delays, environmental uncertainties, increases in real estate acquisition costs, uncommitted local match, concerns expressed by stakeholders or impacted communities or residents or businesses who would be relocated for the project, or lack of legislative approval, affect the likelihood of successful project start and completion. Applicant must identify all material risks to the project and the strategies that the lead applicant and any project partners have undertaken or will undertake to mitigate those risks. The applicant will assess the greatest risks to the project and identify how the project parties will mitigate those risks. The applicant must include its risk monitoring, management and mitigation strategy and explain management staffing plans and procedures. Risks and mitigation strategies should be summarized in the project narrative and additional detailed information should be provided with the application as supporting documentation.

Provide a Project Management Plan including management controls, relations management, project planning and concept design, description and approach to managing risk, environment, design management, project delivery, construction management, construction close out, start up and revenue operation, real estate acquisition and management, and rolling stock acquisition and management (see https://railroads.dot.gov/training-guidance/resources/project-development).

B. Project Readiness:

1. Lifecycle Stage

Applicants should demonstrate completion of the Project Lifecycle prerequisites consistent with the definitions of Lifecycle Stages and consistent with the available guidance at the time of application.¹⁰

¹⁰ FRA published the proposed Guidance on Development and Implementation of Railroad Capital Projects in the Federal Register on June 28, 2022. 87 FR 38451; FRA Docket No. FRA-2022-0035. FRA anticipates that the final Guidance will be published in the Federal Register soon. The final Guidance will also be made available on FRA's website and in FRA Docket No. FRA-2022-0035.

For Planning Studies projects (to be submitted under Track 1), applicants must state why the planning study is being undertaken (e.g., to advance a Departmental strategic goal, to advance the NEC toward achieving a state of good repair, or to study how trip times on the NEC can be improved), and the primary activities to be undertaken in the planning study (e.g., feasibility study, a market analysis, a preliminary alternatives analysis, stakeholder coordination effort). Applicants should demonstrate the extent of support from local, regional, State or other partners to advance the study.

For Planning Projects (to be submitted under Track 1), applicants should demonstrate whether there is support from local, regional, State or other partners to advance the study. For projects currently in a planning stage, applicants should indicate whether preliminary alternatives have been developed, evaluated and submitted for public review and comment, as well as the timeline for procurement of preliminary engineering services.

For Project Development projects (to be submitted under Track 2), applicants must indicate whether or the extent to which the following has been completed or provide the timeline for completion: development of a purpose and need statement; development of preliminary alternatives; public, tribal and agency outreach regarding the project; and development of conceptual design.

For Final Design projects, Final Design and Construction projects, or Construction projects (to be submitted under Track 3), applicants must indicate whether Project Development activities, including issuance of a NEPA decision by a USDOT agency, acceptance of preliminary engineering by FRA, and preparation of a project management plan have been completed, or provide the timeline for completion. In addition, applicants must describe the status of coordination among FRA and the operating railroads in the study area in relation to track configuration. If coordination is complete, provide documentation of operator and FRA's concurrence with the new track configuration. For Construction projects, the applicant must demonstrate completion of final design documentation that is consistent with the NEPA decision, and the engineering configuration accepted during Project Development.

2. Status of Environmental Review.

Applicants should explain what Federal (and, if appropriate, State and local) environmental compliance and permitting requirements have been completed. Such requirements include NEPA and other Federal, local and State permitting requirements, if applicable. If the NEPA process is complete, an applicant should indicate the date of completion, and provide a website link or other reference to the NEPA decision document, which might include a final Categorical Exclusion, Finding of No Significant Impact, or Record of Decision. If the NEPA process is not yet underway, the application should state this. If the NEPA process is underway, but not complete, the application should detail the type of NEPA review underway, where the project is in the process, and indicate the anticipated date of completion of all NEPA-related milestones. If the last agency NEPA document was dated more than three years before the application date, the applicant should explain whether the NEPA document needs to be updated and include a proposed approach, if appropriate, for such an update in accordance with applicable NEPA and FRA requirements as well as indicate what, if any, coordination on the update has been conducted with FRA. Information regarding FRA's environmental processes and requirements are located at https://www.fra.dot.gov/environment. For all other Federal, state and local permitting requirements, the applicant should describe which permits apply, the status of those reviews, and the expected timeline for completion.

3. Financial Readiness.

Applicants must provide a funding plan consistent with the project budget identifying anticipated sources of project funding, describing the applicant's assessment of financial risk to the project and mitigation strategies, providing a methodology for handling cost overruns, and determining and analyzing appropriate contingency. The funding plan must also describe the applicant's plan for financing operation and maintenance of the project. If selected, a financial plan for Major Capital Projects must be prepared consistent with the requirements of the Final Railroad Capital Project Development and Implementation Guidance by time of obligation.

For anticipated Federal funding other than through the FSP Program, describe when the funding is expected to be secured and indicate what federal grant programs are anticipated, as well as the percentage of the total project cost expected be funded by the other federal funds.

For anticipated non-Federal funding, applicants must provide the total percentage of non-Federal funding and identify the sources of the non-Federal share. Applicants should demonstrate the availability of non-Federal funds for project match, for example, by including an approved budget document showing the match commitment, a funding commitment letter signed by an authorized official of the entity committing funds, or similar materials.

Applicants should provide executed cost sharing agreements if applicable, or, if incomplete, describe whether they have been started and the expected timeline for finalizing those agreements.

For Major Capital Projects, the Capital Cost Estimate should incorporate a narrative and Risk Assessment consistent with the available guidance at the time of application and that describes and explains the logic, methods, assumptions, and calculations used in the estimate, and should account for varying risks related to materials, labor, and project activities necessary for an independently conducted risk review.

4. Legal, financial and technical capacity of the applicant.

i. Legal capacity of applicant.

To address legal capacity, an applicant should indicate whether it owns now or will own the project property and provide a description of agreements necessary to enable the project construction, necessary continuing access and ability to ensure operation and maintenance.

ii. Financial capacity of applicant.

To explain financial capacity, applicants should complete FRA Form 251. Describe past experience in managing and overseeing similar projects.

iii. Technical capacity of applicant.

To explain technical capacity applicants should demonstrate experience of key personnel proposed to lead and perform the technical efforts, and the qualifications of the primary and supporting organizations to fully and successfully execute the proposed project within the proposed time frame and budget. Discussion of applicant qualifications should include experience in managing similar projects and specifically address the considerations in 2 CFR 200.206(b) including the applicant's financial stability, management systems and standards, history of performance, audit reports and findings, and ability to effectively implement grant requirements. Include the technical qualifications and demonstrated experience of key personnel proposed to lead and perform the technical efforts, and the qualifications of the primary and supporting organizations to fully and successfully execute the proposed project within the proposed timeframe and budget.

C. DOT Strategic Goals: In addressing the selection criteria applicants must address the following:

a. Safety: The applicant must, if applicable, include information on, and to the extent possible, quantify, how the project will target known documented safety problems within the project area or wider rail network and demonstrate how the project will address safety risks. A project addressing grade crossings should include specific DOT National Grade Crossing Inventory information, including the railroad that owns the infrastructure (or the crossing owner, if different from the railroad), the primary railroad operator, the DOT crossing inventory number, and the roadway at the crossing. Applicants can search for data to meet this requirement at the following link: https://safetydata.fra.dot.gov/OfficeofSafety/default.aspx. In addition, if applicable, applicants should provide the page number in the State Highway-Rail Grade Crossing Action Plan where the grade crossing is referenced. Applicants should specify whether the project will result in the elimination of one or more grade crossings through grade separation or otherwise. the number of crossings addressed and focus on what the project intervention will do to mitigate existing quantifiable safety problems. The application should provide evidence to support the claimed level of effectiveness of the project in protecting motorized and non-motorized travelers from health and safety risks, such as the number or rate of crashes, serious injuries, and/or fatalities. In cases which the project seeks to upgrade infrastructure, the applicant is encouraged to describe the infrastructure being upgraded and specifically how the upgrades enhance safety with documentation provided.

b. Economic Strength and Global Competitiveness: The applicant must, if applicable, include information on, and to the extent possible, quantify, how the project will target known documented issues or improve conditions for laborers and/or local residents in regard to equitable economic strength and core assets within the project area or wider rail network. Quantifiable elements corresponding to this DOT objective may include specific commitment regarding targeted hiring or utilization of underrepresented workers written into the process or labor agreement(s) of the project, the creation of long-term employment opportunities with estimated quantity range expressed as a number or demonstrate how the project will contribute to economic progress stemming from infrastructure investment. To the extent that applicants have not sufficiently considered job quality and labor rights in their planning, as determined by the Department of Labor, the applicants will be required to do so before receiving funds for construction, consistent with Executive Order 14025, Worker Organizing and Empowerment (86 FR 22829), and Executive Order 14052, Implementation of the Infrastructure Investment and Jobs Act (86 FR 64335). Specifically, the project planning activities and project delivery actions must support: (a) strong labor standards and the free and fair choice to join a union, including project labor agreements, local hire agreements, distribution of workplace rights notices, and use of an appropriately trained workforce; (b) high-quality workforce development programs, including registered apprenticeship, labor-management training programs, and supportive services to help train, place, and retain people in good-paying jobs and apprenticeships; and (c) comprehensive planning and policies to promote hiring and inclusion for all groups of workers, including through the use of local and economic hiring preferences, linkage agreements with workforce programs that serve these underrepresented groups, and proactive plans to prevent harassment. Consistent with E.O. 11246, Equal Employment Opportunity (30 FR 12319, and as amended), all federally assisted contractors are required to make good faith efforts to meet the goals of 6.9 percent of construction project hours being performed by women, in addition to goals that vary based on geography for construction work hours and for work being performed by people of color.

c. Equity: The applicant must, if applicable, include information on, and to the extent possible, quantify, how the project will target known documented inequality and barriers to opportunity within the project area or wider rail network. Quantifiable elements corresponding to this DOT objective may include specific ways the project supports investments increasing accessibility to rail infrastructure and expanding travel options for underserved populations by providing data on the size of the targeted underserved population, demographic descriptors of the population, and distance from project area to key locations. If applicable, the applicant should describe how the project will meet ADA requirements and be accessible to people with disabilities, including individuals who use wheelchairs, and how the project will connect underserved communities to essential services such as hospitals, grocery stores, or affordable housing. If applicable, applicants should include their plan for taking affirmative steps to employ small business consistent with 2 CFR 200.321, workforce development and training information, if applicable: For any project that includes workforce development, applicants must document, to the extent practicable, similar existing local training programs supported by the DOT, the Department of Labor, and/or the Department of Education. The applicant must also (a) describe whether the workforce development project incorporates union representation, and (b) describe any involvement or partnership with existing in-house skills training programs, unions and worker organizations, community colleges and public school districts, community-based organizations, supportive services providers, pre-apprenticeships tied to Registered Apprenticeships, Registered Apprenticeship programs and other labor-management training programs, or other quality workforce training providers. FRA strongly encourages applicants to outline their plan to recruit, train, and retain a locally hired, diverse workforce. In support of Executive Order 13985, Advancing Racial Equity and Support for Underserved Communities Through the Federal Government (86 FR 7009) and Executive Order 14008, FRA will assess the project's ability to address equity and barriers to opportunity, to the extent possible within the program and consistent with law. Such considerations will include, but are not limited to, the applicant's plan for using small businesses to complete its project, the extent to which the project improves or expands transportation options for underserved communities, mitigates the safety risks and detrimental quality of life effects that rail lines can have on communities especially those communities that might have been historically disconnected due to the railroad infrastructure, and expands workforce development and career pathway opportunities to foster a more diverse rail industry. This will also include community engagement efforts already taken or planned, the extent to which engagement efforts are designed to reach impacted communities, whether engagement is accessible for persons with disabilities or limited English proficient persons within the impacted communities, and how community feedback is taken into account in decision-making.¹¹

¹¹ For more information and best practices on meaningful public involvement applicants are encouraged to review the DOT's Promising Practices for Meaningful Public Involvement in Transportation Decision-Making at https://www.transportation.gov/priorities/equity/promising-practices-meaningful-public-involvement-transportation-decision-making).

d. Climate and Sustainability: The applicant must, if applicable, include information on, and to the extent possible, quantify, how the project will target climate change and sustainability within the project area or wider rail network. Quantifiable elements corresponding to this DOT objective may include specific data showing expected shift to different transportation modes, reduction in fossil fuel usage or greenhouse gas (GHG) emissions from project implementation, and programmatic infrastructure review showing existing infrastructure or evacuation vulnerabilities to climate change events. Projects that have not sufficiently considered climate change and sustainability in their planning, as determined by FRA, will be required to do so before receiving funds for construction, consistent with Executive Order 14008 In the grant agreement, recipients will be expected to describe activities they have taken or will take prior to obligation of construction funds that addresses climate change and environmental justice (EJ). Activities that address climate change include, but are not limited to, demonstrating: the project will result in significant GHG emissions reductions; and the project supports emissions reductions goals in a Local/Regional/State plan. Activities that address EJ include but are not limited to: basing project design on the results of a proven EJ screening tool (developed by another Federal agency such as the EPA, a state agency, etc.); conducting enhanced, targeted outreach to EJ communities; considering EJ in alternatives analysis and final project design; and supporting a modal shift in freight or passenger movement to reduce emissions or reduce induced travel demand.

e. Transformation. The applicant must, if applicable, provide information on and, to the extent possible, quantify, how the project will transform the nation's transportation infrastructure within the project area or wider rail network to improve operations, increase capacity, and maintain existing assets. Quantifiable elements corresponding to this DOT objective may include data showing additional capacity of the rail system in terms of passengers served, programmatic review of existing assets showing vulnerability due to age or lack of maintenance, and change of maintenance requirements (i.e., hours spent with a train or rail line taken out of operation to make maintenance repairs before and after the project).

b. Additional Application Elements

Applicants must submit:

i. Grant Template Attachments 2-5: A Statement of work (SOW) addressing the scope, a schedule, a budget, and performance measures for the proposed project if it were selected for award as described in Section F(3)(c) and required in 2 CFR 200.301. The four required templates are labeled “Example General Grants—Attachments 2-5” and are located at https://www.fra.dot.gov/Page/P0325. Applications that do not complete and submit all four of the grant package templates will be considered incomplete and will not be reviewed. The SOW must contain sufficient detail so FRA, and the applicant, can understand the expected outcomes of the proposed work to be performed and can monitor progress toward completing project tasks and deliverables during a prospective grant's period of performance.

ii. Draft Agreement required under 49 U.S.C. 22905(c)(1), if applicable. As a condition of receiving a grant under this program for a project that uses rights-of-way owned by a railroad, the grantee shall have in place a written agreement between the grant recipient and the railroad regarding such use and ownership, including any compensation for such use; assurances regarding the adequacy of infrastructure capacity to accommodate both existing and future freight and passenger operations; an assurance by the railroad that collective bargaining agreements with the railroad's employees including terms regulating the contracting of work will remain in full force and effect according to their terms for work performed by the railroad on the railroad transportation corridor; and an assurance that the grant recipient complies with liability requirements consistent with 49 U.S.C. 28103. For additional information please see FRA's Answers to Frequently Asked Questions about Rail Improvement Grant Conditions under 49 U.S.C. 22905(c)(1).¹²

¹² https://railroads.dot.gov/sites/fra.dot.gov/files/2022-05/Rail-Improvement-Grant-Conds%20-Sec22905-FAQs_042922.pdf.

3. Unique Entity Identifier and System for Award Management (SAM)

To apply for funding through Grants.gov, applicants must be properly registered in SAM before submitting an application, provide a valid unique entity identifier in its application, and continue to maintain an active SAM registration all as described in detail below. Complete instructions on how to register and submit an application can be found at www.Grants.gov. Registering with Grants.gov is a one-time process; however, it can take up to several weeks for first-time registrants to receive confirmation and a user password. FRA recommends that applicants start the registration process as early as possible to prevent delays that may preclude submitting an application package by the application deadline. Applications will not be accepted after the due date. Delayed registration is not an acceptable justification for an application extension.

FRA may not make a grant award to an applicant until the applicant has complied with all applicable SAM requirements and if an applicant has not fully complied with the requirements by the time the Federal awarding agency is ready to make a Federal award, the Federal awarding agency may determine that the applicant is not qualified to receive a Federal award and use that determination as a basis for making a Federal award to another applicant. Late applications, including those that are the result of a failure to register or comply with Grants.gov applicant requirements in a timely manner, will not be considered. If an applicant has not fully complied with the requirements by the submission deadline, the application will not be considered. To submit an application through Grants.gov, applicants must:

a. Register with the SAM at www.SAM.gov

All applicants for Federal financial assistance must maintain current registrations in the SAM database. An applicant must be registered in SAM to successfully register in Grants.gov. The SAM database is the repository for standard information about Federal financial assistance applicants, grantees, and subrecipients. Organizations that have previously submitted applications via Grants.gov are already registered with SAM, as it is a requirement for Grants.gov registration. Please note, however, that applicants must update or renew their SAM registration at least once per year to maintain an active status. Therefore, it is critical to check registration status well in advance of the application deadline. If an applicant is selected for an award, the applicant must maintain an active SAM registration with current information throughout the period of the award, including information on a grantee's immediate and highest level owner and subsidiaries, as well as on all predecessors that have been awarded a Federal contract or grant within the last three years, if applicable. Information about SAM registration procedures is available at www.sam.gov.

b. Obtain a Unique Entity Identifier

On April 4, 2022, the Federal government discontinued using DUNS Numbers. The DUNS Number was replaced by a new, non-proprietary identifier that is provided by the System for Award Management (SAM.gov). This new identifier is called the Unique Entity Identifier (UEI), or the Entity ID. To find or request a Unique Entity Identifier, please visit www.sam.gov.

4. Submission Dates and Times

Applicants must submit complete applications to www.Grants.gov no later than 5:00 p.m. ET, March 27, 2023. Applicants will receive a system-generated acknowledgement of receipt. FRA reviews www.Grants.gov information on dates/times of applications submitted to determine timeliness of submissions. Late applications will be neither reviewed nor considered. Delayed registration is not an acceptable reason for late submission. To apply for funding under this announcement, all applicants are expected to be registered as an organization with Grants.gov. Applicants are strongly encouraged to apply early to ensure all materials are received before this deadline.

To ensure a fair competition of limited discretionary funds, no late submissions will be reviewed for any reason, including: (1) failure to complete the Grants.gov registration process before the deadline; (2) failure to follow Grants.gov instructions on how to register and apply as posted on its website; (3) failure to follow all the instructions in this NOFO; and (4) technical issues experienced with the applicant's computer or information technology environment.

5. Intergovernmental Review

Intergovernmental Review is required for this program. Applicants must contact their State Single Point of Contact to comply with their state's process under Executive Order 12372.

6. Funding Restrictions

Consistent with 2 CFR 200.458, as applicable, FRA will only approve pre-award costs if such costs are incurred pursuant to the negotiation and in anticipation of the grant agreement and if such costs are necessary for efficient and timely performance of the scope of work. Under 2 CFR 200.458, grant recipients must seek written approval from FRA for pre-award activities to be eligible for reimbursement under the grant. Activities initiated prior to the execution of a grant or without FRA's written approval may be ineligible for reimbursement or matching contribution. Cost sharing or matching may be used only for authorized Federal award purposes.

FRA is prohibited under 49 U.S.C. 22905(f) ¹³ from providing FSP grants for Commuter Rail Passenger Transportation. FRA's interpretation of this provision is informed by the language in 49 U.S.C. 24911, and specifically the eligible capital projects in 49 U.S.C. 24911(c). FRA's primary intent in funding FSP projects is to make reasonable investments in Capital Projects for Intercity Rail Passenger Transportation. Such projects may be located on shared corridors where Commuter Rail Passenger Transportation and/or freight rail also benefit from the project.

¹³ Under 49 U.S.C. 24911(i), FSP grants are subject to the conditions in 49 U.S.C. 22905.

7. Other Submission Requirements

For any supporting application materials that an applicant cannot submit via Grants.gov, such as oversized engineering drawings, an applicant may submit an original and two (2) copies to Mr. Bryan Rodda, Amtrak and Northeast Corridor Program Delivery, Federal Railroad Administration, 1200 New Jersey Avenue SE, Room W38-203, Washington, DC 20590. However, due to delays caused by enhanced screening of mail delivered via the U.S. Postal Service, FRA advises applicants to use other means of conveyance (such as courier service) to assure timely receipt of materials before the application deadline. Additionally, if documents can be obtained online, explaining to FRA how to access files on a referenced website may also be sufficient.

Note: Please use generally accepted formats such as .pdf, .doc, .docx, .xls, .xlsx and .ppt, when uploading attachments. While applicants may embed picture files, such as .jpg, .gif, and .bmp in document files, applicants should not submit attachments in these formats. Additionally, the following formats will not be accepted: .com, .bat, .exe, .vbs, .cfg, .dat, .db, .dbf, .dll, .ini, .log, .ora, .sys, and .zip.

E. Application Review Information

1. Criteria: Eligibility, Completeness and Application Risk Review

FRA will first screen each application for applicant and project eligibility (eligibility requirements are outlined in Section C of this notice), completeness (application documentation and submission requirements are outlined in Section D of this notice), and the 20 percent minimum non-Federal match.

FRA will determine whether the proposed project is consistent with the most recently published NEC Project Inventory, and if not whether materially changed infrastructure or service conditions, changes in project sponsor capabilities or commitments, or other significant changes since the completion of the most recently published NEC Project Inventory have occurred. For projects that benefit intercity and commuter rail services, FRA will determine whether Amtrak and the public authorities providing commuter rail passenger transportation at the eligible project location: are in compliance with section 24905(c)(2); and have identified funding for the intercity passenger rail share, the commuter rail share, and the local share of the eligible project before the commencement of the project. Applicants must identify these shares for the Lifecycle Stage(s) for which they are seeking funding (for example, an application seeking funding only for Project Development must identify funding shares only for the Project Development Lifecycle Stage and not for the FD and Construction stages of the same project.)

a. Evaluation Criteria

Consistent with the NEC Project Inventory, FRA's first priority will be selecting Major Backlog projects and Planning Studies. FRA's second priority will be selecting other projects in or beginning the Final Design or Construction Lifecycle Stages within the Inventory Period. FRA will evaluate all eligible and complete applications using the following evaluation criteria.

i. Technical Merit: FRA will take into account—

A. The degree to which the application, statement of work, schedule and budget are reasonable and appropriate to achieve the expected outcomes of the proposed project on time and on budget;

B. The extent to which the proposed implementation approach demonstrates an efficient project delivery approach, demonstrates the commitment of necessary resources and workforce to deliver the project in accordance with the proposed schedule and budget, and includes methods for handling track outages to reduce service impacts and maximize productivity during such outages (e.g., construction is coordinated with other geographically proximate projects);

C. Project Readiness: FRA will evaluate the extent to which the project demonstrates strong project readiness by:

i. Lifecycle Stage. Completion of all prerequisites necessary to reach the scheduled Lifecycle Stage(s) proposed for funding in the application and consistent with the Lifecycle Stage(s) anticipated to start during the Inventory Period;

ii. Status of Environmental Review. Status of environmental and permitting approval(s) and likelihood of any outstanding approval(s) affecting project obligation or completion;

iii. Technical Capacity. Demonstration of capacity to successfully deliver the project in compliance with applicable Federal requirements including whether the applicant has, or will have

(a) the legal, financial and technical capacity to carry out the project,

(b) satisfactory continuing access to the equipment or facilities, and

(c) the capability and willingness to maintain the equipment or facilities; and

iv. Financial Readiness. Demonstration of financial resources necessary to complete the project. For a Project where an applicant is requesting funding for the Final Design and/or Construction Lifecycle Stages of projects, FRA will assess demonstration of commitment of the financial resources to bring the project to completion.

ii. Funding Considerations:

In determining FSP Program funding allocations, FRA will generally fund Capital Renewal, Stations and Improvement projects applying under this notice between 50 and 80 percent Federal share. FRA will favorably consider a higher Federal share, within this range, to the extent such projects:

(A) Replace, rehabilitate, or repair infrastructure, equipment, or a facility used for providing intercity passenger rail service to bring such assets into a state of good repair;

(B) Improve intercity passenger rail service performance consistent with 49 U.S.C. 24911(c)(2), and provide a high proportion of intercity passenger rail benefit relative to overall project benefits.

b. Selection Criteria

In addition, FRA will:

1. Consider the following:

i. The geographic diversity of the projects receiving funding, and

ii. The award of other competitive Federal funds for the project.

2. Consider the extent to which the project adequately address the following DOT Strategic Goals:

i. Safety. FRA will assess the project's ability to foster a safe transportation system for the movement of goods and people, consistent with the Department's strategic goal to reduce transportation-related fatalities and serious injuries across the transportation system. Such considerations will include, but are not limited to, the extent to which the project improves safety at highway-rail grade crossings, reduces incidences of rail-related trespassing, and upgrades infrastructure to achieve a higher level of safety.

ii. Economic Strength and Global Competitiveness. FRA will assess the project's ability to contribute to economic progress stemming from infrastructure investment and associated job creation in the industry. Such considerations will include, but are not limited to, the extent to which the project results in high-quality job creation by supporting good-paying jobs with a free and fair choice to join a union, and in on-going operations and maintenance, and incorporates strong labor standards, such as through the use of project labor agreements or union neutrality agreements; includes comprehensive planning and policies to promote hiring of underrepresented populations including local and economic hiring preferences and investments in high-quality workforce development programs with supportive services, including labor-management programs, to help train, place, and retain people in good-paying jobs or registered apprenticeship, and invests in vital infrastructure assets;

iii. Equity. FRA will assess the project's ability to address equity and barriers to opportunity, to the extent possible within the program and consistent with law. Such considerations will include, but are not limited to, the applicant's plan for using small businesses to complete its project, the extent to which the project improves or expands transportation options and mitigates the safety risks and detrimental quality of life effects that rail lines can have on communities. This will also include community engagement efforts already taken or planned, the extent to which engagement efforts are designed to reach impacted communities, whether engagement is accessible for persons with disabilities or limited English proficient persons within the impacted communities, and how community feedback is taken into account in decision-making.

iv. Climate and Sustainability. In support of Executive Order 14008, Tackling the Climate Crisis at Home and Abroad, FRA will assess the project's ability to reduce the harmful effects of climate change and anticipate necessary improvements to prepare for extreme weather events. Such considerations will include, but are not limited to, the extent to which the project reduces overall lifecycle emissions, promotes energy efficiency, incorporates lower-carbon construction materials, increases resiliency, and recycles or redevelops existing infrastructure.

v. Transformation. FRA will assess the project's ability to expand and improve the nation's rail network, which needs to balance new infrastructure for increased capacity with proper maintenance of aging assets. Such considerations will include, but are not limited to, the extent to which the project adds capacity to congested corridors, builds new connections or attracts new users to passenger rail, and ensures assets will be improved to a state of good repair.

2. Review and Selection Process

Consistent with the NEC Project Inventory, FRA will conduct an application review process, as follows. FRA will evaluate applications for Major Backlog projects first, followed by evaluations for the remaining project types.

a. Screen applications for applicant and project eligibility, completeness, the minimum match;

b. Evaluate remaining applications (completed by technical panels applying the evaluation criteria) to:

(1) Prioritize projects based on technical merit (including readiness) consistent with the NEC Project Inventory (e.g., Capital Renewal, Stations and Improvement projects starting Construction within the Inventory period will be prioritized with other Capital Renewal, Stations and Improvement projects starting Construction in the Inventory period.)

(2) Review for funding allocation considerations; and

(3) Assign a rating of “Not Recommended”, “Acceptable,” “Recommended,” or “Highly Recommended”;

c. Review highly rated Major Capital Projects for LOI and PFAs, as applicable, to determine whether either is appropriate for the project based on project specific characteristics, funding availability, and statutory and policy criteria stated in this NOFO, as well as review funding allocation considerations provided by the technical panels (completed by a panel of senior FRA officials.)

d. Apply selection criteria and recommend initial selection of projects consistent with the prioritization and funding allocations described in the NEC Project Inventory (including recommendations for potential PFA/LOIs and options for reduced awards) for the FRA Administrator's review (completed by a Senior Review Team, which includes senior leadership from the Office of the Secretary and FRA); and

e. Select projects for grant award and associated PFAs or LOIs for the Secretary's or his designee's review and approval (completed by the FRA Administrator).

3. Reporting Matters Related to Integrity and Performance

Before making a Federal award with a total amount of Federal share greater than the simplified acquisition threshold of $250,000 (see 2 CFR 200.88 Simplified Acquisition Threshold), FRA will review and consider any information about the applicant that is in the designated integrity and performance system accessible through SAM (currently the Federal Awardee Performance and Integrity Information System (FAPIIS)). See 41 U.S.C. 2313.

An applicant, at its option, may review information in the designated integrity and performance systems accessible through SAM and comment on any information about itself that a Federal awarding agency previously entered and is currently in the designated integrity and performance system accessible through SAM.

FRA will consider any comments by the applicant, in addition to the other information, in making a judgment about the applicant's integrity, business ethics, and record of performance under Federal awards when completing the review of risk posed by applicants as described in 2 CFR 200.205.

F. Federal Award Administration Information

1. Federal Award Notice

FRA will announce applications selected for funding in a press release and on FRA's website after the application review period. This announcement is FRA's notification to successful and unsuccessful applicants alike. Project Sponsors of rail projects who are ineligible to receive Partnership Program funding, who are not selected for Partnership Program funds, or who receive less than the requested Partnership Program funding amount, are encouraged to consider other FRA and Departmental grant programs.

FRA will contact applicants with successful applications after announcement with information and instructions about the award process. This notification is not an authorization to begin proposed project activities. FRA requires satisfaction of applicable requirements by the applicant and a formal agreement signed by both the grantee and the FRA, including an approved scope, schedule, and budget, before obligating the grant. See an example of standard terms and conditions for FRA grant awards at https://railroads.fra.dot.gov/elibrary/award-administration-and-grant-conditions. This template is subject to revision.

2. Administrative and National Policy Requirements

In connection with any program or activity conducted with or benefiting from funds awarded under this notice, grantees of funds must comply with all applicable requirements of Federal law, including, without limitation, the Constitution of the United States; the conditions of performance, nondiscrimination requirements, and other assurances made applicable to the award of funds in accordance with regulations of DOT; and applicable Federal financial assistance and contracting principles promulgated by the Office of Management and Budget (OMB). In complying with these requirements, grantees, in particular, must ensure that no concession agreements are denied or other contracting decisions made on the basis of speech or other activities protected by the First Amendment. If DOT determines that a grantee has failed to comply with applicable Federal requirements, DOT may terminate the award of funds and disallow previously incurred costs, requiring the grantee to reimburse any expended award funds.

Examples of administrative and national policy requirements include: 2 CFR 200; procurement standards at 2 CFR 200 (D)—Procurement Standards; 2 CFR 1207.317 and 2 CFR 200.401; compliance with Federal civil rights laws and regulations; disadvantaged business enterprises requirements; debarment and suspension requirements; drug-free workplace requirements; FRA's and OMB's Assurances and Certifications; ADA; safety requirements; NEPA; EJ requirements; and compliance with 49 U.S.C. 24905(c)(2) for the duration of NEC Projects. Unless otherwise stated in statutory or legislative authority, or appropriations language, all financial assistance awards follow the Uniform Administrative Requirements, Cost Principles and Audit Requirements for Federal Awards at 2 CFR 200 and 2 CFR 1201.

Assistance under this NOFO is subject to the grant conditions in 49 U.S.C. 22905, including protective arrangements that are equivalent to the protective arrangements established under section 504 of the Railroad Revitalization and Regulatory Reform Act of 1976 (45 U.S.C. 836) with respect to employees affected by actions taken in connection with the project to be financed in whole or in part by grants subject to 49 U.S.C. 22905, the provision deeming operators rail carriers and employers for certain purposes, and grantee agreements with railroad right-of-way owners for projects using railroad rights-of-way (see D.2.b.ii).¹⁴

¹⁴ FRA has posted final guidance to grantees on implementing protective arrangements at to assist grantees implementing the protective arrangements; and answers to frequently asked questions intended to assist grantees subject to the requirements of 49 U.S.C. 22905(c)(1) at https://railroads.dot.gov/elibrary/frequently-asked-questions-about-rail-improvement-grant-conditions-under-49-usc-ss-22905c1.

Grantees must comply with applicable appropriations act requirements and all relevant requirements of 2 CFR 200. Rights to intangible property under grants awarded under this NOFO are governed in accordance with 2 CFR 200.315. See an example of standard terms and conditions for FRA grant awards at https://railroads.fra.dot.gov/elibrary/award-administration-and-grant-conditions. This template is subject to revision.

The FSP-NEC NOFO will be implemented, as appropriate and consistent with law, in alignment with the priorities in Executive Order 14052, Implementation of the Infrastructure Investment and Jobs Act (86 FR 64355), which are to invest efficiently and equitably, promote the competitiveness of the U.S. economy, improve job opportunities by focusing on high labor standards, strengthen infrastructure resilience to all hazards including climate change, and to effectively coordinate with State, local, Tribal, and territorial government partners.

a. Climate Change, Sustainability, and Environmental Justice. Projects that have not sufficiently considered climate change and sustainability in their planning, as determined by FRA, will be required to do so before receiving funds for construction, consistent with Executive Order 14008, Tackling the Climate Crisis at Home and Abroad (86 FR 7619). In the grant agreement, recipients will be expected to describe activities they have taken, or will take, prior to obligation of construction funds that addresses climate change and EJ. Activities that address climate change include, but are not limited to, demonstrating: the project will result in significant greenhouse gas emissions reductions; the project supports emissions reductions goals in a Local/Regional/State plan; and the project primarily focuses on funding for state of good repair and clean transportation options, including public transportation, walking, biking, and micro-mobility. Activities that address EJ include, but are not limited to: basing project design on the results of a proven EJ screening tool (developed by another Federal agency such as the EPA, a State agency, etc.); conducting enhanced, targeted outreach to EJ communities; considering EJ in alternatives analysis and final project design; and supporting a modal shift in freight or passenger movement to reduce emissions or reduce induced travel demand.

b. Racial Equity and Barriers to Opportunity. Projects must consider and address equity and barriers to opportunity in their planning, as determined by FRA, and as a condition of receiving construction funds, consistent with Executive Order 13985, Advancing Racial Equity and Support for Underserved Communities Through the Federal Government (86 FR 7009). The grant agreement should include the grantee's description of activities they have taken, or will take, prior to obligation of construction funds that addresses equity and barriers to opportunity. These activities may include, but are not limited to: completing an equity impact analysis for the project; adopting an equity and inclusion program/plan; conducting meaningful public engagement to ensure underserved communities are provided an opportunity to be involved in the planning process; including investments that either redress past barriers to opportunity or that proactively create new connections and opportunities for underserved communities; hiring from local communities; improving access to or providing economic growth opportunities for underserved, overburdened, or rural communities; or addressing historic or current inequitable air pollution or other environmental burdens and impacts.

c. Employment Opportunities. In addition to prioritizing projects that address climate change, proactively address racial equity, and reduce barriers to opportunity, FRA intends to use the FSP-NEC NOFO to support the creation of good-paying jobs with the free and fair choice to join a union and the incorporation of strong labor standards and training and placement programs, especially registered apprenticeships and local hire agreements, in project planning and development. To the extent that applicants have not sufficiently considered job quality and labor rights in their planning, as determined by the Department of Labor, the applicants will be required to do so before receiving funds for construction, consistent with Executive Order 14025, Worker Organizing and Empowerment (86 FR 22829), and Executive Order 14052, Implementation of the Infrastructure Investment and Jobs Act (86 FR 64335). Specifically, the project planning activities and project delivery actions must support: (a) strong labor standards and the free and fair choice to join a union,¹⁵ including project labor agreements, local hire agreements,¹⁶ distribution of workplace rights notices, and use of an appropriately trained workforce; (b) support of high-quality workforce development programs, including registered apprenticeship, labor-management training programs, and supportive services to help train, place, and retain people in good-paying jobs and apprenticeships; and (c) comprehensive planning and policies to promote hiring and inclusion for all groups of workers, including through the use of local and economic hiring preferences, linkage agreements with workforce programs that serve these underrepresented groups, and proactive plans to prevent harassment.

¹⁵ Federal funds may not be used to support or oppose union organizing, whether directly or as an offset for other funds.

¹⁶ IIJA div. B section 25019 provides authority to use geographical and economic hiring preferences, including local hire, for construction jobs, subject to any applicable State and local laws, policies, and procedures.

The Office of Federal Contract Compliance Programs (OFCCP) is charged with protecting America's workers by enforcing equal employment opportunity and affirmative action obligations of employers that do business with the federal government. OFCCP enforces Executive Order 11246, Section 503 of the Rehabilitation Act of 1973, and the Vietnam Era Veterans' Readjustment Assistance Act of 1974. Together these legal authorities make it unlawful for federal contractors and subcontractors to discriminate in employment because of race, color, religion, sex, sexual orientation, gender identity, national origin, disability, or status as a protected veteran. Consistent with E.O. 11246, Equal Employment Opportunity (30 FR 12319, and as amended), all Federally assisted contractors are required to make good faith efforts to meet the goals of 6.9 percent of construction project hours being performed by women, in addition to goals that vary based on geography for construction work hours and for work being performed by people of color. Recipients of Federal transportation funding will be required to comply fully with Title VI of the Civil Rights Act of 1964 and implementing regulations (49 CFR 21), the ADA, Section 504 of the Rehabilitation Act of 1973, and all other civil rights requirements. The Department's and FRA's Office of Civil Rights may provide resources and technical assistance to recipients to ensure full and sustainable compliance with Federal civil rights requirements. The OFCCP has a Mega Construction Project Program through which it engages with project sponsors as early as the design phase to help promote compliance with non-discrimination and affirmative action obligations. Through the program, OFCCP offers contractors and subcontractors extensive compliance assistance, conducts compliance evaluations, and helps to build partnerships between the project sponsor, prime contractor, subcontractors, and relevant stakeholders. OFCCP will identify projects that receive an award under this notice and are required to participate in OFCCP's Mega Construction Project Program from a wide range of federally assisted projects over which OFCCP has jurisdiction and that have a project cost above $35 million. DOT will require project sponsors with costs above $35 million that receive awards under this funding opportunity to partner with OFCCP, if selected by OFCCP, as a condition of their DOT award. Under that partnership, OFCCP will ask these project sponsors to make clear to prime contractors in the pre-bid phase that project sponsor's award terms will require their participation in the Mega Construction Project Program. Additional information on how OFCCP makes their selections for participation in the Mega Construction Project Program is outlined under “Scheduling” on the Department of Labor website: https://www.dol.gov/agencies/ofccp/faqs/construction-compliance.”

d. Critical Infrastructure Security and Resilience. It is the policy of the United States to strengthen the security and resilience of its critical infrastructure against both physical and cyber threats. Each applicant selected for Federal funding under this Notice must demonstrate, prior to signing of the grant agreement, efforts to consider and address physical and cyber security risks relevant to the transportation mode and type and scale of the project. Projects that have not appropriately considered and addressed physical and cyber security and resilience in their planning, design, and project oversight, as determined by the DOT and the Department of Homeland Security, will be required to do so before receiving funds for construction, consistent with Presidential Policy Directive 21—Critical Infrastructure Security and Resilience and the National Security Presidential Memorandum on Improving Cybersecurity for Critical Infrastructure Control Systems. Information on cybersecurity performance goals can be found at https://www.cisa.gov/cpg. '

e. Domestic Preference Requirements. Assistance under this NOFO is subject to the Buy America requirements in 49 U.S.C. 22905(a) and the Build America, Buy America Act, Public Law 117-58, 70901-52. In addition, as expressed in Executive Order 14005, Ensuring the Future Is Made in All of America by All of America's Workers (86 FR 7475), it is the policy of the executive branch to maximize, consistent with law, the use of goods, products, and materials produced in, and services offered in, the United States. FRA expects all applicants to comply with that requirement without needing a waiver. However, to obtain a waiver, a recipient must be prepared to demonstrate how they will maximize the use of domestic goods, products, and materials in constructing their project. If an applicant anticipates it may need a waiver, the applicant should indicate the need in its application and submit materials necessary for such requests together with its application.

f. Civil Rights and Title VI. Applications should demonstrate that the recipient has a plan for compliance with civil rights obligations and nondiscrimination laws, including Title VI of the Civil Rights Act of 1964 and implementing regulations (49 CFR 21), the ADA, and section 504 of the Rehabilitation Act, and accompanying regulations. This may include, as applicable, providing a Title VI plan, community participation plan, and other information about the communities that will be benefited and impacted by the project. The DOT's and FRA's Office of Civil Rights may provide resources and technical assistance to recipients to ensure full and sustainable compliance with Federal civil rights requirements.

3. Reporting

a. Progress Reporting on Grant Activity

Each applicant selected for a grant will be required to comply with all standard FRA reporting requirements, including quarterly progress reports, quarterly Federal financial reports, and interim and final performance reports, as well as all applicable auditing, monitoring and close out requirements. Reports may be submitted electronically. Pursuant to 2 CFR 170.210, non-Federal entities applying under this NOFO must have the necessary processes and systems in place to comply with the reporting requirements should they receive Federal funding.

b. Additional Reporting

Applicants selected for funding are required to comply with all reporting requirements in the standard terms and conditions for FRA grant awards including 2 CFR 180.335 and 2 CFR 180.350.

If the Federal share of any Federal award under this NOFO may include more than $500,000 over the period of performance, applicants are informed of the post award reporting requirements reflected in 2 CFR 200, Appendix XII—Award Term and Condition for Recipient Integrity and Performance Matters.

c. Performance and Program Evaluation

As a condition of grant award, grant recipients may be required to participate in an evaluation undertaken by DOT, or another agency or partner. The evaluation may take different forms such as an implementation assessment across grant recipients, an impact and/or outcomes analysis of all or selected sites within or across grant recipients, or a benefit/cost analysis or assessment of return on investment. The Department may require applicants to collect data elements to aid the evaluation. As a part of the evaluation, as a condition of award, grant recipients must agree to: (1) make records available to the evaluation contractor; (2) provide access to program records, and any other relevant documents to calculate costs and benefits; (3) in the case of an impact analysis, facilitate the access to relevant information as requested; and (4) follow evaluation procedures as specified by the evaluation contractor or DOT staff.

Recipients and subrecipients are also encouraged to incorporate program evaluation, including associated data collection activities from the outset of their program design and implementation, to meaningfully document and measure their progress towards meeting an agency priority goal(s). Title I of the Foundations for Evidence-Based Policymaking Act of 2018, Public Law 115-435 (2019) urges Federal awarding agencies and Federal assistance recipients and subrecipients to use program evaluation as a critical tool to learn, to improve equitable delivery, and to elevate program service and delivery across the program lifecycle. Evaluation means “an assessment using systematic data collection and analysis of one or more programs, policies, and organizations intended to assess their effectiveness and efficiency.” (5 U.S.C. 311). Credible program evaluation activities are implemented with relevance and utility, rigor, independence and objectivity, transparency, and ethics (OMB Circular A-11, Part 6, Section 290).

For grant recipients receiving an award, evaluation costs are allowable costs (either as direct or indirect), unless prohibited by statute or regulation, and such costs may include the personnel and equipment needed for data infrastructure and expertise in data analysis, performance, and evaluation. (2 CFR 200).

d. Performance Reporting

Each applicant selected for funding must collect information and report on the project's performance using measures mutually agreed upon by FRA and the grantee to assess progress in achieving strategic goals and objectives. Examples of some rail performance measures are listed in the table below. The applicable measure(s) will depend upon the type of project. Applicants requesting funding for rolling stock must integrate at least one equipment/rolling stock performance measure, consistent with the grantee's application materials and program goals.

Rail measures | Unit measured | Temporal | Primary strategic goal | Description
Slow Order Miles Reduced | Miles | Annual | Economic Strength and Global Competitiveness | The number of miles per year within the project area that have temporary speed restrictions (“slow orders”) imposed due to track condition. This is an indicator of the overall condition of track. This measure can be used for projects to rehabilitate sections of a rail line since the rehabilitation should eliminate, or at least reduce the slow orders upon project completion.
Number of Passenger Trains | Count | Annual | Economic Strength and Global Competitiveness | The number of daily passenger trains between city pairs.
Passenger Counts | Count | Annual | Economic Strength and Global Competitiveness | Count of the annual passenger boardings and alightings at stations within the project area.
Delay Minutes | Time/Trip | Annual | Economic Strength and Global Competitiveness | Point-to-point delay minutes reduced between pre-determined station stops within the project area. This measure demonstrates how track improvements and other upgrades improve operations on a rail line. It also helps make sure the railroad is maintaining the line after project completion.
Track Miles | Miles | One Time | Economic Strength and Global Competitiveness | The number of track miles replaced and/or rehabilitated that exist within the project area. This measure can be beneficial for projects building sidings or sections of additional main line track on a railroad.

G. Federal Awarding Agency Contacts

For further information concerning this Notice, please contact the FRA NOFO Support program staff via email at FRA-NOFO-Support@dot.gov. If additional assistance is needed, you may contact Mr. Bryan Rodda, Office of Policy and Planning, Federal Railroad Administration, 1200 New Jersey Avenue SE, Room W38-203, Washington, DC 20590; email: Bryan.Rodda@dot.gov; telephone: 202-493-0443.

H. Other Information

All information submitted as part of or in support of any application shall use publicly available data or data that can be made public and methodologies that are accepted by industry practice and standards, to the extent possible. If the application includes information the applicant considers to be a trade secret or confidential commercial or financial information, the applicant should do the following: (1) Note on the front cover that the submission “Contains Confidential Business Information (CBI)”; (2) mark each affected page “CBI”; and (3) highlight or otherwise denote the CBI portions.

The DOT regulations implementing the Freedom of Information Act (FOIA) are found at 49 CFR 7 (C)—Availability of Reasonably Described Records under the Freedom of Information Act which sets forth rules for FRA to make requested materials, information, and records publicly available under FOIA. Unless prohibited by law and to the extent permitted under the FOIA, contents of application and proposals submitted by successful applicants may be released in response to FOIA requests. In addition, following the completion of the selection process and announcement of awards, FRA may publish a list of all applications received along with the names of the applicant organizations and funding amounts requested. Except for information withheld under the previous paragraph, FRA may also make application narratives publicly available or share application information within DOT or with other Federal agencies if FRA determines that sharing is relevant to the respective program's objectives.

Issued in Washington, DC.
Jennifer Mitchell,
Deputy Administrator.

[FR Doc. 2022-28034 Filed 12-23-22; 8:45 am]

BILLING CODE 4910-06-P